NUCLEAR REGULATORY COMMISSION

[Docket No. 50-263]

Nuclear Management Company, LLC; Monticello Nuclear Generating Plant; Environmental Assessment and Finding of No Significant Impact

The U.S. Nuclear Regulatory Commission (NRC) is considering issuance of an exemption from title 10 of the Code of Federal Regulations (10 CFR), part 50, appendix R, section III.G.2.b. for Facility Operating License No. DPR-22, issued to Nuclear Management Company, LLC (NMC), for operation of the Monticello Nuclear Generating Plant (Monticello), located in Wright County, Minnesota. Therefore, as required by 10 CFR 51.21, the NRC is issuing this environmental assessment and finding of no significant impact.

Environmental Assessment

Identification of the Proposed Action

The proposed action would authorize an exemption from the automatic fire suppression system requirements of 10 CFR part 50, appendix R, section III.G.2.b. as it applies to Fire Area IV/Fire Zone 1F. Fire Area IV/Fire Zone 1F corresponds to the Monticello torus compartment, located at elevation 896 feet, 3 inches of the reactor building. The proposed action is in accordance with NMC's exemption request of September 15, 2003, as supplemented February 24, 2004.

The Need for the Proposed Action

NMC requested this exemption as a result of internal assessments of the Monticello's Fire Protection Program. NMC determined that the existing exemption from 10 CFR part 50 appendix R, section III.G.2.b (granted in 1983) for the torus compartment did not bound the existing plant configuration and the current Monticello Appendix R safe shutdown analysis. Accordingly, the NMC resubmitted its request for a permanent exemption for this area.

Environmental Impacts of the Proposed Action

The NRC staff reviewed NMC's exemption request and will issue a safety evaluation documenting its review. The review found that the Division 1 and Division 2 components of the core spray, residual heat removal (RHR) cooling, suppression pool level transmitter, and suppression pool temperature monitoring systems (SPOTMOS) are separated in Fire Area IV/Fire Zone 1F by at least 75 feet. The NRC staff concluded that the area wide automatic fire suppression is not necessary to achieve the underlying purpose of appendix R, section III.G.2.b, for the suppression pool torus area at Monticello considering the following:

• The minimal amount of fixed and transient combustibles present;

• The separation between redundant trains of core spray valves, RHR cooling valves, and suppression pool level transmitters;

• Smoke and temperature detector provisions;

• The ability of SPOTMOS to continue to operate with at least one RTD on one train in the operable-but-degraded mode for any fire in fire zone 1F that involved both conduit trains.

The details of the NRC staff's safety evaluation will be provided as part of the letter to NMC transmitting the NRC staff's decision on the exemption request.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for Monticello dated November 1972.

Agencies and Persons Consulted

On July 22, 2004, the NRC staff consulted with the Minnesota State official, Nancy Campbell of the Department of Commerce, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see NMC's exemption request of September 15, 2003, as supplemented February 24, 2004. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or (301) 415-4737, or by e-mail to pdr@nrc.gov.

Dated at Rockville, Maryland, this 22nd day of July 2004.
For the Nuclear Regulatory Commission.
L. Raghavan,
Chief, Section 1, Project Directorate III, Division of Licensing Project Management, Office of Nuclear Reactor Regulation.

[FR Doc. 04-17476 Filed 7-30-04; 8:45 am]

BILLING CODE 7590-01-P